DEPARTMENT OF TRANSPORTATION

Coast Guard

33 CFR Part 117

[CGD13-01-001]

RIN 2115-AE47

Drawbridge Operations Regulations; Lake Washington Ship Canal, Seattle, WA

AGENCY: Coast Guard, DOT.

ACTION: Temporary final rule.

SUMMARY: The Coast Guard is temporarily changing the operating regulations for the Ballard Bridge across the Lake Washington Ship Canal, mile 1.1, at Seattle, Washington. This change limits double-leaf opening of the bascule draw daily with notice requirements. These special operations are to accommodate a major refurbishment project to the operating and drive systems of the bridge by the City of Seattle.

DATES: This temporary final rule is effective from 5 a.m. on September 4, 2001, until 8 p.m. on September 30, 2002.

ADDRESSES: The public docket and all documents referred to in this document are available for inspection at the Thirteenth Coast Guard District, Aids to Navigation and Waterways Management Branch, 915 Second Avenue, Seattle, Washington 98174-1067, between 7:45 a.m. and 4:15 p.m. Monday through Friday, except federal holidays.

FOR FURTHER INFORMATION CONTACT: Austin Pratt, Project Officer, Thirteenth Coast Guard District, (206) 220-7282.

SUPPLEMENTARY INFORMATION:

Regulatory Information

On February 12, 2001, a notice of proposed rulemaking was published in the Federal Register entitled Drawbridge Operation Regulations; Lake Washington Ship Canal (66 FR 9779). Two objections to the proposed temporary rule were received. One objection concerned commercial vessels and the other objection pertained to a research vessel. Their concerns have been accommodated in this temporary final rule.

Background and Purpose

The City of Seattle proposed to replace the aged operating and drive systems of the bascule drawspan. To minimize interference with navigation, only one leaf will be temporarily disabled at a time. The disabled draw leaf will be powered by a winch system that will not perform at the usual speed for this drawbridge. In order to avoid lengthy inoperative periods, the bridge owner proposed three daily periods during which the draw will open fully for vessels unable to safely pass through one-half of the span. With five hours notice, both leaves of the draw would open at 5 a.m., 11 a.m., and 7 p.m. on any day of the week. The second and third periods are changed from 12:30 p.m. and 8 p.m. to better accommodate larger vessels. In addition a provision has been added for double-leaf openings at any time for vessels of at least 480 gross tons whenever at least one-week notice is provided. The established closed periods Monday through Friday of 7 a.m. to 9 p.m. and 4 p.m. to 6 p.m., except federal holidays, will remain in effect. The start time for the special operations is changed from June 4 to September 4, 2001. During the project, single-leaf openings are available according to the operating schedule currently in effect. These regulations provide that both draw leaves need not be opened for the passage of vessels, including vessels engaged in towing operations, from 7 a.m. to 9 a.m. and from 4 p.m. to 6 p.m. Monday through Friday, except federal holidays, for any vessel under 1000 gross tons.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this rule to be so minimal that a full Regulatory Evaluation under paragraph 10e of the regulatory policies and procedures of DOT is unnecessary. This conclusion is based on the fact that most vessels will be able to pass the bridge with little change from normal operations and that all vessels can be accommodated three times a day. The largest vessels affected will be able to provide the one-week notice whenever the scheduled full openings are not convenient.

Indian Tribal Governments

This rule does not have tribal implications under Executive Order 13175, Consultation and Coordination with Indian Tribal Governments, because it does not have a substantial direct effect on one or more Indian tribes, on the relationship between the federal government and Indian tribes, or on the distribution of power and responsibilities between the federal government and Indian tribes.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. Some vessel owners might be temporarily inconvenienced by the change, if effected, but the delay should not be significant, especially after vessel operators learn of the change and can therefore plan their trips on the canal accordingly.

Collection of Information

This rule would call for no new collection of information under the Paperwork Reduction Act of 1995 (44 U.S.C. 3501-3520.).

Federalism

We have analyzed this rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

We considered the environmental impact of this rule and concluded that, under figure 2-1, paragraph (32)(e) of Commandant Instruction M16475.lC, this proposed rule is categorically excluded from further environmental documentation because promulgation of drawbridge regulations have been found not to have a significant effect on the environment. A “Categorical Exclusion Determination” is available in the docket where indicated under ADDRESSES.

List of Subjects in 33 CFR Part 117

Bridges, Regulations.

For the reasons discussed in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.1051(d) is amended by temporarily adding paragraph (4) as follows:

§ 117.1051 Lake Washington Ship Canal.

* * * * *

(d) * * *

(4) From 5 a.m. on September 4, 2001, to 8 p.m. September 30, 2002, the Ballard Bridge, mile 1.1, need not open both draw leaves for the passage of vessels, including those engaged in towing operations, except at 5 a.m., 11 a.m., and 7 p.m. if at least five hours notice is given or at any time for vessels of 480 gross tons or more if at least one-week notice is provided, other than 7 a.m. to 9 p.m. and 4 p.m. to 6 p.m. Monday through Friday, except federal holidays.

* * * * *

Dated: June 5, 2001.
Erroll Brown,
Rear Admiral, U.S. Coast Guard, Commander, Thirteenth Coast Guard District.

[FR Doc. 01-17107 Filed 7-9-01; 8:45 am]

BILLING CODE 4910-15-P